DEPARTMENT OF LABOR

Employee Benefits Security Administration

193rd Meeting of the Advisory Council on Employee Welfare and Pension Benefit Plans: Notice of Teleconference Meeting

Pursuant to the authority contained in Section 512 of the Employee Retirement Income Security Act of 1974 (ERISA), 29 U.S.C. 1142, the 193rd meeting of the Advisory Council on Employee Welfare and Pension Benefit Plans (also known as the ERISA Advisory Council) will be held as a teleconference on September 25, 2018.

The meeting will take place at the U.S. Department of Labor, 200 Constitution Avenue NW, Washington, DC 20210 in C5515 Room 2. The meeting will run from 10:00 a.m. to approximately 4:00 p.m. The purpose of the open meeting is to discuss reports/recommendations for the Secretary of Labor on the issues of: (1) Evaluating the Department's Regulations and Guidance on ERISA Bonding Requirements and Exploring Reform Considerations; and, (2) Lifetime Income Products as a Qualified Default Investment Alternative (QDIA)—Focus on Decumulation and Rollovers. Descriptions of these topics are available on the Advisory Council page of the Employee Benefits Security Administration (EBSA) website, at https://www.dol.gov/agencies/ebsa/about-ebsa/about-us/erisa-advisory-council.

Organizations or members of the public wishing to submit a written statement may do so by submitting 20 copies on or before September 18, 2018, to Larry Good, Executive Secretary, ERISA Advisory Council, U.S. Department of Labor, Suite N-5623, 200 Constitution Avenue NW, Washington, DC 20210. Statements also may be submitted as email attachments in word processing or pdf format transmitted to good.larry@dol.gov. It is requested that statements not be included in the body of the email. Statements deemed relevant by the Advisory Council and received on or before September 18 will be included in the record of the meeting and made available through the EBSA Public Disclosure Room. Do not include any personally identifiable information (such as name, address, or other contact information) or confidential business information that you do not want publicly disclosed.

Individuals or representatives of organizations wishing to address the Advisory Council should forward their requests to the Executive Secretary or telephone (202) 693-8668. Oral presentations will be limited to 10 minutes, time permitting, but an extended statement may be submitted for the record. Individuals with disabilities who need special accommodations should contact the Executive Secretary by September 18, 2018, at the address indicated.

Signed at Washington, DC, this day of August 29, 2018.
Preston Rutledge,
Assistant Secretary, Employee Benefits Security Administration.

[FR Doc. 2018-19252 Filed 9-4-18; 8:45 am]

BILLING CODE 4510-29-P